DEPARTMENT OF THE INTERIOR

National Park Service

Native American Graves Protection and Repatriation Review Committee Nomination Solicitation

AGENCY: National Park Service, Interior.

ACTION: Native American Graves Protection and Repatriation Review Committee: Notice of Nomination Solicitation

SUMMARY: The Secretary of the Interior is soliciting nominations for a traditional Native American religious leader to serve as a member of the Native American Graves Protection and Repatriation Review Committee. In accordance with the provisions of the Native American Graves Protection and Repatriation Review Act (NAGPRA), 25 U.S.C. 3000-3016, only nominations from Indian tribes, Native Hawaiian organizations, and traditional religious leaders will be considered in appointing this member.

DATES: Interested Indian tribes, Native Hawaiian organizations, and traditional Native American religious leaders are invited to nominate traditional Native American religious leaders for the Secretary’s consideration in appointing one member to the review committee. Nominations should include all information as specified under Supplementary Information. All nominations must be received by close of business on May 13, 2002.

ADDRESSES: Nominations should be sent (1) by mail to the Manager, National NAGPRA Program, National Park Service, 1849 C Street NW-350NC, Washington, DC 20240; or (2) by commercial delivery address to the Manager, National NAGPRA Program, National Park Service, 800 North Capitol Street NW, Suite 350, Washington, DC 20001.

Increased security in the Washington, DC, area may cause delays in the delivery of U.S. Mail to Government offices. In addition to mail or commercial delivery, please also fax a copy of the mailed nomination to Manager, National NAGPRA Program, at (202) 343-5260, to ensure timely review. Nominations sent to addressees or addresses other than those listed above or nominations sent by mail without a follow-up fax transmission may not reach the National NAGPRA Program in time for consideration.

FOR FURTHER INFORMATION CONTACT: Dr. Robert Stearns, Manager, National NAGPRA Program, 1849 C Street NW-350NC, Washington, DC 20240, telephone (202) 343-5266. A copy of the charter for this review committee is available upon request or at the National NAGPRA Program website, http://www.cr.nps.gov/nagpra/ (click on “Review Committee,” then click on “Procedures”).

SUPPLEMENTARY INFORMATION: Each nomination should contain the name, home and business addresses and telephone numbers, and a brief biography of the traditional Native American religious leader recommended for appointment. The nomination should also contain the following:

(a) Nominations submitted by an Indian tribe or Native Hawaiian organization must be signed by the leader of the tribe or organization, and must include the leader's name, title, address, and daytime telephone number.

In accordance with NAGPRA's regulations, a tribe's or organization's leader is “the principal leader of an Indian tribe or Native Hawaiian organization or the individual officially designated by the governing body of an Indian tribe or Native Hawaiian organization or as otherwise provided by tribal code, policy, or established procedure as responsible for matters relating to these regulations” (43 C.F.R. 10.2 (b)(4)).

Indian tribe means “any tribe, band, nation, or other organized Indian group or community of Indians, including any Alaska Native village or corporation as defined in or established by the Alaska Native Claims Settlement Act (43 U.S.C. 1601 et seq.), which is recognized as eligible for the special programs and services provided by the United States to Indians because of their status as Indians” (43 U.S.C. 10.2 (b)(2)).

Native Hawaiian organization means “any organization that: (A) Serves and represents the interests of Native Hawaiians; (B) Has as a primary and stated purpose the provision of services to Native Hawaiians; and (C) Has expertise in Native Hawaiian affairs” (43 U.S.C. 10.2 (b)(3)(i)).

(b) Nominations submitted by traditional religious leaders should identify the nominator as a traditional religious leader and include his/her title, business and home address, and a daytime telephone number.

In accordance with NAGPRA’s regulations, a traditional religious leader is “a person who is recognized by members of an Indian tribe or Native Hawaiian organization as: (i) Being responsible for performing cultural duties relating to the ceremonial or religious traditions of that Indian tribe or Native Hawaiian organization, or (ii) Exercising a leadership role in an Indian tribe or Native Hawaiian organization based on the tribe or organization’s cultural, ceremonial, or religious practices” (43 C.F.R. 10.2 (d)(3)).

Nominations from other individual tribal members cannot be considered.

The review committee’s duties include monitoring the implementation of the statute, facilitating the resolution of disputes, consulting with the Secretary of the Interior in the development of regulations, and reporting to Congress on the status of implementation (25 U.S.C. 3006). As stipulated by 25 U.S.C. 3006 (b), the review committee is composed of seven members appointed by the Secretary of the Interior as follows:

(a) Three members appointed from nominations by Indian tribes, Native Hawaiian organizations, and traditional religious leaders, with at least two such persons being traditional religious leaders;

(b) Three members appointed from nominations submitted by national museum organizations and scientific organizations; and

(c) One member appointed from a list of persons developed and consented to by all of the other members.

The Secretary may not appoint Federal officers or employees to the Committee.

Dated: February 28, 2002.
Robert Stearns,
Manager, National NAGPRA Program.

[FR Doc. 02-8575 Filed 4-11-02; 8:45 am]

BILLING CODE 4310-70-S